DEPARTMENT OF TRANSPORTATION

National Highway Traffic Safety Administration

[Docket No. NHTSA-2022-0091]

NHTSA Safety Research Portfolio Public Meeting: Fall 2022

AGENCY: National Highway Traffic Safety Administration (NHTSA), Department of Transportation (DOT).

ACTION: Notice of public meeting.

SUMMARY: NHTSA will hold a Public Meeting from November 1-3, 2022, as a joint effort between the Agency's Vehicle Safety Research and Behavioral Safety Research offices to share information on activities within the Agency's research programs. The meeting will be held in a virtual format with representatives from across the two research offices presenting the information in a panel format. Questions from the audience will be accepted following presentations. Each presentation will include visual slides that will be available in a public docket after the Public Meeting. Video of the panels will also be available on the NHTSA website.

DATES: NHTSA will hold the public meeting on November 1-3, 2022, with times to be established as the agenda is further refined. The meeting will be held virtually, via Zoom. Registration to attend the meeting must be received no later than October 28, 2022. There is no cost to register. Registration can be completed at https://www.nhtsa.gov/events/research-public-meeting-2022. The public docket will remain open for 90 days following the publication of this notice.

ADDRESSES: The meeting will be held virtually via Zoom. The virtual meeting's online access link(s) will be available upon registration. Details regarding the agenda and speakers will be added to the Public Meeting website, https://www.nhtsa.gov/events/research-public-meeting-2022, regularly prior to the event. The meeting will also be recorded and made available after the event for offline viewing at https://www.nhtsa.gov/events/research-public-meeting-2022.

FOR FURTHER INFORMATION CONTACT: If you have questions about the public meeting, please contact Lisa Floyd at 202-366-4697, or by email at Lisa.Floyd@dot.gov.

SUPPLEMENTARY INFORMATION: Traditionally, NHTSA held its Safety Research Portfolio public meetings in-person; however, the most recent meeting was held in a virtual format in Fall 2021. The Fall 2021 meeting was widely attended and allowed for robust participation in each of the panels through the virtual format. While the Agency will reconsider formats in future iterations, the Fall 2022 public meeting will again be held in a virtual format. For reference, NHTSA's previous Safety Research Portfolio public meeting, held in Fall 2021, is available for viewing at https://www.nhtsa.gov/events/research-public-meeting-2021.

Registration is recommended for all attendees. Attendees should register at https://www.nhtsa.gov/events/research-public-meeting-2022 by October 28, 2022. Follow the designated registration instructions and indicate whether you may need an accommodation.

NHTSA is committed to providing equal access to this meeting for all participants. Persons with disabilities in need of an accommodation should contact Lisa Floyd at 202-366-4697, or via email at Lisa.Floyd@dot.gov, with your request as soon as possible. A sign language interpreter will be provided, and closed captioning services will be available.

Should it be necessary to cancel or reschedule the meeting due to an unforeseen circumstance, NHTSA will take all available measures to notify registered participants as soon as possible. NHTSA will conduct the public meeting informally, and technical rules of evidence will not apply. The meeting will be recorded, and a recording will be made available after the event.

Comments: Comments may be submitted electronically or in hard copy during the 90-day comment period. Please submit all comments no later than January 10, 2023 by any of the following methods:

• Federal Rulemaking Portal: Go to http://www.regulations.gov. Follow the online instructions for submitting comments.

• Mail: Docket Management Facility: U.S. Department of Transportation, 1200 New Jersey Avenue SE, West Building Ground Floor, Room W12-140, Washington, DC 20590-0001.

• Hand Delivery or Courier: 1200 New Jersey Avenue SE, West Building Ground Floor, Room W12-140, Washington, DC 20590-0001, between 9 a.m. and 5 p.m. ET, Monday through Friday, except Federal Holidays. To be sure someone is there to help you, please call 202-366-9826 before coming.

• Fax: 202-366-1767.

Instructions: All submissions must include the agency name and docket number. Note that all comments received will be posted without change to http://www.regulations.gov, including any personal information provided. Please see the Privacy Act discussion below.

Docket: For access to the docket go to http://www.regulations.gov at any time or to 1200 New Jersey Avenue SE, West Building, Ground Floor, Room W12-140, Washington, DC 20590 between 9 a.m. and 5 p.m., Monday through Friday, except Federal Holidays. Telephone: 202-366-9826.

Privacy Act: Anyone is able to search the electronic form of all comments received into any of our dockets by the name of the individual submitting the comment (or signing the comment, if submitted on behalf of an association, business, labor union, etc.). You may review DOT's complete Privacy Act Statement in the Federal Register published on April 11, 2000 (65 FR 19477-78), or you may visit http://www.regulations.gov/privacy.html.

Confidential Business Information: If you wish to submit any information under a claim of confidentiality, you should submit three copies of your complete submission, including the information you claim to be confidential business information to the Chief Counsel, NHTSA, at 1200 New Jersey Avenue SE, Washington, DC 20590. In addition, you should submit two copies, from which you have deleted the claimed confidential business information, to Docket Management at the address given above. When you send a comment containing information claimed to be confidential business information, you should submit a cover letter setting forth the information specified in our confidential business information regulation (49 CFR part 512). To facilitate social distancing during COVID-19, NHTSA is temporarily accepting confidential business information electronically. Please see https://www.nhtsa.gov/coronavirus/submission-confidential-business-information for details.

Background: Each year, NHTSA executes a broad array of research programs in support of Administration, DOT, and agency priorities. The Agency's research portfolio covers a diverse range of program areas pertaining to vehicle safety, including the safety consequences of novel automotive technologies that aim to improve the crash avoidance and/or occupant protection characteristics of motor vehicles; and behavioral safety, which includes safety countermeasures that pertain to the behavior and actions of drivers, occupants, and other road users, including vulnerable populations.

This public meeting is intended to provide public and stakeholder outreach regarding research activities at NHTSA for both vehicle and behavioral safety, including expected near-term deliverables. NHTSA technical research staff will discuss projects recently concluded or underway and may also introduce early-stage projects. As time allows, there will be an opportunity for session attendees to submit questions via the chat feature in Zoom. Presentations will be displayed during the panel sessions and will be posted to the docket (regulations.gov) after the meeting. Updates on this event will be available at https://www.nhtsa.gov/events/research-public-meeting-2022 and NHTSA recommends checking back periodically for updates or potential scheduling changes.

Discussion of research projects will occur in the form of technical panel presentations. Participants will be able to register for any or all of the days and be able to join the Zoom webinar in parts or for full sessions throughout each day.

The Agency invites comments on the information presented as well as on the Agency's research priorities, research goals, and additional research gaps/needs the public may believe NHTSA should be addressing. Select project work may be posted to the docket for which comments are also welcome. Slides presented at the public meeting will be posted to the docket subsequently for public access and a recording of the meeting will be made available after the event for offline viewing.

Cem Hatipoglu,
Associate Administrator, Vehicle Safety Research.

[FR Doc. 2022-22146 Filed 10-11-22; 8:45 am]

BILLING CODE 4910-59-P